DEPARTMENT OF THE TREASURY

Office of Foreign Assets Control

Sanctions Actions Pursuant to Executive Order 13224

AGENCY: Office of Foreign Assets Control, Treasury.

ACTION: Notice.

SUMMARY: The Department of the Treasury's Office of Foreign Assets Control (OFAC) is publishing the names of 2 individuals whose property and interests in property are blocked pursuant to Executive Order 13224 of September 23, 2001, “Blocking Property and Prohibiting Transactions With Persons Who Commit, Threaten To Commit, or Support Terrorism.”

DATES: OFAC's actions described in this notice were effective on February 23, 2017.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic Availability

The SDN List and additional information concerning OFAC sanctions programs are available from OFAC's Web site (www.treas.gov/ofac).

Notice of OFAC Actions

On February 23, 2017, OFAC blocked the property and interests in property of the following 2 individuals pursuant to E.O. 13224, “Blocking Property and Prohibiting Transactions With Persons Who Commit, Threaten To Commit, or Support Terrorism”:

Individuals

1. AL-HASRI, Bassam Ahmad (a.k.a. HUSARI, Bassam Ahmad; a.k.a. “AKHLAQ, Abu Ahmad”; a.k.a. “AL-SHAMI, Abu Ahmad”), Syria; DOB 01 Jan 1971 to 31 Dec 1971; alt. DOB 01 Jan 1969; POB Qalamun, Damascus Province, Syria; alt. POB Ghutah, Damascus Province, Syria; alt. POB Tadamon, Rif Dimashq, Syria; nationality Syria; alt. nationality Palestinian; Gender Male (individual) [SDGT] (Linked To: AL-NUSRAH FRONT).

2. KHALIL, Iyad Nazmi Salih (a.k.a. AL-TOUBASI, Iyad; a.k.a. AL-TUBASI, Iyad; a.k.a. KHALIL, Ayyad Nazmi Salih; a.k.a. KHALIL, Eyad Nazmi Saleh; a.k.a. “ABU-JULAYBIB”; a.k.a. “AL-DARDA', Abu”; a.k.a. “AL-URDUNI, Abu-Julaybib”), Syria; DOB 01 Jan 1974 to 31 Dec 1974; POB Syria; nationality Jordan; Gender Male; Passport 286062 (Jordan) issued 05 Apr 1999 expires 04 Apr 2004; alt. Passport 654781 (Jordan) issued 01 Jan 2008 to 31 Dec 2010 (individual) [SDGT] (Linked To: AL-NUSRAH FRONT).

Dated: February 23, 2017.
Andrea Gacki,
Acting Director, Office of Foreign Assets Control.

[FR Doc. 2017-03923 Filed 2-28-17; 8:45 am]

BILLING CODE 4810-AL-P